DEPARTMENT OF COMMERCE

National Oceanic and Atmospheric Administration

50 CFR Part 679

[Docket No. 130925836-4174-02]

RIN 0648-XD627

Fisheries of the Exclusive Economic Zone Off Alaska; Inseason Adjustment to the 2014 Gulf of Alaska Pollock Seasonal Apportionments

AGENCY: National Marine Fisheries Service (NMFS), National Oceanic and Atmospheric Administration (NOAA), Commerce.

ACTION: Temporary rule; inseason adjustment.

SUMMARY: NMFS is adjusting the 2014 seasonal apportionments of the total allowable catch (TAC) in the Gulf of Alaska (GOA) by re-apportioning unharvested pollock TAC from Statistical Areas 610 to Statistical Areas 620 and 630 of the GOA. This action is necessary to provide opportunity for harvest of the 2014 pollock TAC, consistent with the goals and objectives of the Fishery Management Plan for Groundfish of the Gulf of Alaska.

DATES: Effective 1200 hours, Alaska local time (A.l.t.), November 14, 2014, until 2400 hours A.l.t., December 31, 2014.

FOR FURTHER INFORMATION CONTACT: Obren Davis, 907-586-7228.

SUPPLEMENTARY INFORMATION: NMFS manages the groundfish fishery in the GOA exclusive economic zone according to the Fishery Management Plan for Groundfish of the Gulf of Alaska (FMP) prepared by the North Pacific Fishery Management Council (Council) under authority of the Magnuson-Stevens Fishery Conservation and Management Act. Regulations governing fishing by U.S. vessels in accordance with the FMP appear at subpart H of 50 CFR part 600 and 50 CFR part 679.

The annual pollock TACs in Statistical Areas 610, 620, and 630 of the GOA are apportioned among four seasons, in accordance with § 679.23(d)(2). Regulations at § 679.20(a)(5)(iv)(B) allow the underharvest of a seasonal apportionment to be added to subsequent seasonal apportionments, provided that any revised seasonal apportionment does not exceed 20 percent of the seasonal apportionment for a given statistical area. Therefore, NMFS is increasing the D season apportionment of pollock in Statistical Area 610 of the GOA to reflect the underharvest of pollock in that area during the A, B, and C seasons. In addition, any underharvest remaining beyond 20 percent of the originally specified seasonal apportionment in a particular area may be further apportioned to other statistical areas. Therefore, NMFS also is increasing the D season apportionments of pollock to Statistical Areas 620 and 630 based on the underharvest of pollock in Statistical Area 610 of the GOA. These adjustments are described below.

The D season apportionment of the 2014 total allowable catch (TAC) of pollock in Statistical Area 610 of the GOA is 13,235 metric tons (mt) as established by the final 2014 and 2015 harvest specifications for groundfish of the GOA (79 FR 12890, March 6, 2014). In accordance with § 679.20(a)(5)(iv)(B), the Administrator, Alaska Region, NMFS (Regional Administrator), hereby increases the D season apportionment for Statistical Area 610 by 2,647 mt to account for the underharvest of the TAC in Statistical Area 610 in the C season. Therefore, the revised D season apportionment of the pollock TAC in Statistical Area 610 is 15,882 mt (13,235 mt plus 2,647 mt).

The pollock D season apportionment in Statistical Area 620 of the GOA is 12,448 mt as established by the final 2014 and 2015 harvest specifications for groundfish of the GOA (79 FR 12890, March 6, 2014). In accordance with § 679.20(a)(5)(iv)(B), the Regional Administrator hereby increases the D season apportionment for Statistical Area 620 by 2,490 mt to account for the underharvest of the TAC in Statistical Area 610. This increase is in proportion to the estimated pollock biomass and is not greater than 20 percent of the seasonal TAC apportionment in Statistical Area 620. Therefore, the revised D season apportionment of the pollock TAC in Statistical Area 620 is 14,938 mt (12,448 mt plus 2,490 mt).

The pollock D season apportionment in Statistical Area 630 of the GOA is 13,720 mt as established by the final 2014 and 2015 harvest specifications for groundfish of the GOA (79 FR 12890, March 6, 2014). In accordance with § 679.20(a)(5)(iv)(B), the Regional Administrator hereby increases the D season apportionment for Statistical Area 630 by 2,696 mt to reflect the total underharvest of the TAC in Statistical Area 610. This increase is in proportion to the estimated pollock biomass and is not greater than 20 percent of the seasonal TAC apportionment in Statistical Area 630. Therefore, the revised D season apportionment of pollock TAC in Statistical Area 630 is 16,416 mt (13,720 mt plus 2,696 mt).

Classification

This action responds to the best available information recently obtained from the fishery. The Assistant Administrator for Fisheries, NOAA (AA), finds good cause to waive the requirement to provide prior notice and opportunity for public comment pursuant to the authority set forth at 5 U.S.C. 553(b)(B) as such requirement is impracticable and contrary to the public interest. This requirement is impracticable and contrary to the public interest as it would prevent NMFS from responding to the most recent fisheries data in a timely fashion and would provide opportunity to harvest increased pollock seasonal apportionments. NMFS was unable to publish a notice providing time for public comment because the most recent, relevant data only became available as of November 13, 2014.

The AA also finds good cause to waive the 30-day delay in the effective date of this action under 5 U.S.C. 553(d)(3). This finding is based upon the reasons provided above for waiver of prior notice and opportunity for public comment.

This action is required by § 679.20 and is exempt from review under Executive Order 12866.

Authority: 16 U.S.C. 1801 et seq.

Dated: November 14, 2014.
Emily H. Menashes,
Acting Director, Office of Sustainable Fisheries, National Marine Fisheries Service.

[FR Doc. 2014-27408 Filed 11-14-14; 4:15 pm]

BILLING CODE 3510-22-P